DEPARTMENT OF HEALTH AND HUMAN SERVICES

Centers for Disease Control and Prevention

Lead Exposure and Prevention Advisory Committee (LEPAC); Notice of Establishment

ACTION: Notice of charter establishment.

SUMMARY: Pursuant to the Section 2203 of Public Law 114-322 (Water Infrastructure Improvements for the Nation Act)(Registry for Lead Exposure and Advisory Committee), and the Federal Advisory Committee Act of October 6, 1972, the Director, Centers for Disease Control and Prevention (CDC), announces the establishment of the Lead Exposure and Prevention Advisory Committee. The Lead Exposure and Prevention Advisory Committee shall, at a minimum: (1) Review the Federal programs and services available to individuals and communities exposed to lead; (2) review current research on lead exposure to identify additional research needs; (3) review and identify best practices, or the need for best practices regarding lead screening and the prevention of lead poisoning; (4) identify effective services, including services relating to healthcare, education, and nutrition for individuals and communities affected by lead exposure and lead poisoning, including in consultation with, as appropriate, the lead exposure registry as established in Section 2203(b) of Public Law 114-322; and (5) undertake any other review or activities that the Secretary determines to be appropriate. This advisory committee will review research and Federal programs and services related to lead poisoning and to identify effective services and best practices for addressing and preventing lead exposures in communities.

FOR FURTHER INFORMATION CONTACT: Perri Ruckart, M.P.H., Epidemiologist, CDC, 4770 Buford Highway NE, Atlanta, Georgia 30341, telephone (770) 488-3808; afp4@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2018-02823 Filed 2-12-18; 8:45 am]

BILLING CODE 4163-18-P